FEDERAL RESERVE SYSTEM

12 CFR Parts 211 and 238

[Docket No. R-1569]

RIN 7100-AE82

Large Financial Institution Rating System; Regulations K and LL; Correction

AGENCY: Board of Governors of the Federal Reserve System.

ACTION: Final rule; correcting amendments.

SUMMARY: On November 21, 2018, the Board of Governors of the Federal Reserve System (Board) published a final rule in the Federal Register regarding the Large Financial Institution Rating System. That document included two typographical errors in “Appendix A—Text of Large Financial Institution Rating System” relating to the description of the conditionally meets expectation rating. This document corrects those typographical errors.

DATES: Effective February 15, 2019.

FOR FURTHER INFORMATION CONTACT: Benjamin McDonough, Assistant General Counsel, (202) 452-2036, Scott Tkacz, Senior Counsel, (202) 452-2744, Keisha Patrick, Senior Counsel, (202) 452-3559, or Chris Callanan, Counsel, (202) 452-3594, Legal Division, Board of Governors of the Federal Reserve System, 20th Street and Constitution Avenue NW, Washington, DC 20551. Telecommunications Device for the Deaf (TDD) users may contact (202) 263-4869.

SUPPLEMENTARY INFORMATION: The Board is making the following corrections to the final rule that was published in the Federal Register on November 21, 2018 (83 FR 58724).

Note: Appendix A does not appear in the Code of Federal Regulations.

Appendix A—Text of Large Financial Institution Rating System (Corrected)

1. On page 58737, second column, line 25 from the top, “capital planning and position” is corrected to read “liquidity risk management and positions”; and

2. On page 58738, third column, line 28 from the top, “capital planning and position” is corrected to “governance and controls”.

By order of the Board of Governors of the Federal Reserve System, acting through the Secretary of the Board under delegated authority.
Ann Misback,
Secretary of the Board.

[FR Doc. 2019-02516 Filed 2-14-19; 8:45 am]

BILLING CODE 6210-01-P